DEPARTMENT OF COMMERCE

Economic Development Administration

Notice of Petitions by Producing Firms for Determination of Eligibility To Apply for Trade Adjustment Assistance

AGENCY: Economic Development Administration (EDA).

ACTION: To give all interested parties an opportunity to comment.

Petitions have been accepted for filing on the dates indicated from the firms listed below.

List of Petition Action By Trade Adjustment Assistance for Period February 19, 2002-March 19, 2002
Firm name | Address | Date petition accepted | Product
Supreme Tool & Die Co., Inc. | 1536 Fenpark Drive, Fenton, MO 63026 | 02/21/02 | Metal industrial tooling and die fabrication.
M. W. Technologies, Inc. | 71 Midland Avenue, Elmwood Park, NJ 07407 | 02/22/02 | Industrial process control instruments and apparatus for the pharmaceutical and food processing industries.
Border Foods, Inc. | 4065 J Street, S.E., Deming, NM 88030 | 02/25/02 | Processed green chile.
Airpax, L.L.C. | 807 Woods Road, Cambridge, MD 21613 | 02/27/02 | Magnetic circuit breakers.
Eminence Speaker, L.L.C. | 838 Mulberry, Eminence, KY40019 | 02/28/02 | Loudspeakers for the music and entertainment industries.
Quad Tool & Design, Inc. | 8565 Highway 45, Kewaskum, WI 53040 | 02/27/02 | Tooling for the molding of plastic articles, machined of metal.
Southwest Specialty Heat Treat, Inc. | 225 East Marshall Wytheville, VA 24382 | 03/04/02 | Heat treatment of metal fasteners.
Randolph Dimension Corp. | 216 Main Street, Jamestown, NY 14272 | 03/04/02 | Hardwood furniture products such as rails, arms and backs, and cabinets and other wood products.
S.O.S. From Texas | Route 4, Box 49, Shamrock, TX 79070 | 03/04/02 | Unisex tee shirts.
Larand Corporation | 2450 West 3rd Court, Miami, FL 33010 | 03/05/02 | Metal stock shapes of brass, carbon steel, stainless steel and aluminum alloy for the recreational marine industry.
Rezolex Limited Company | 2240 Pepper Road, Las Cruces, NM 88005 | 03/05/02 | Paprika-based oleo resin.
Rowe Foundry & Machine Co. dba Rowe Foundry Inc. | 147 West Cumberland St., Martinsville, Il 62442 | 03/06/02 | Counterweights for backhoes.
Paul Villwock Farms | 600 Perrydale Road, Dallas, Oregon 97338 | 03/18/02 | Plums.
Henry County Plywood Corporation | 1580 Phospho Springs Road, Ridgeway, Virginia 24148 | 03/19/02 | Hardwood plywood for the furniture industry.

The petitions were submitted pursuant to section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm.

Any party having a substantial interest in the proceedings may request a public hearing on the matter. A request for a hearing must be received by Trade Adjustment Assistance, Room 7315, Economic Development Administration, U.S. Department of Commerce, Washington, DC 20230, no later than the close of business of the tenth calendar day following the publication of this notice.

(The Catalog of Federal Domestic Assistance official program number and title of the program under which these petitions are submitted is 11.313, Trade Adjustment Assistance.)

Dated: March 20, 2002.
Anthony J. Meyer,
Coordinator, Trade Adjustment and Technical Assistance.

[FR Doc. 02-7433 Filed 3-27-02; 8:45 am]

BILLING CODE 3510-24-P